DEPARTMENT OF TRANSPORTATION

Federal Aviation Administration

Public Notice for Waiver of Aeronautical Land-Use Assurance

AGENCY: Federal Aviation Administration (FAA), DOT.

ACTION: Notice of intent of waiver with respect to land; Lake Superior College and City of Duluth, Duluth, Minnesota.

SUMMARY: The FAA is considering a proposal to change 42.29 acres of airport land from aeronautical use to non-aeronautical use of property located at Lake Superior College—Emergency Response Training Center, 11501 MN Highway 23, Duluth, MN 55808. The aforementioned land is not needed for aeronautical use.

DATES: Comments must be received on or before May 1, 2017.

ADDRESSES: Documents are available for review by appointment at the FAA Dakota-Minnesota Airports District Office, Jake Martin, Program Manager, 6020 South 28th Ave., Suite 102, Minneapolis, MN 55450 Telephone: 612-253-4634/Fax: 612-253-4611.

Written comments on the Sponsor's request must be delivered or mailed to: Jake Martin, Program Manager, Federal Aviation Administration, Dakota-Minnesota Airports District Office, 6020 South 28th Ave., Suite 102, Minneapolis, MN 55450 Telephone: 612-253-4634/Fax: 612-253-4611.

FOR FURTHER INFORMATION CONTACT: Jake Martin, Program Manager, Federal Aviation Administration, Dakota-Minnesota Airports District Office, 6020 South 28th Ave., Suite 102, Minneapolis, MN 55450 Telephone: 612-253-4634/Fax: 612-253-4611.

SUPPLEMENTARY INFORMATION: In accordance with section 47107(h) of Title 49, United States Code, this notice is required to be published in the Federal Register 30 days before modifying the land-use assurance that requires the property to be used for an aeronautical purpose.

The property is located along Highway 23 on the border of Minnesota and Wisconsin, near the point where the St. Louis River enters Lake Superior. This property is used to provide aircraft rescue and firefighting (ARFF) training to personnel working for fire departments responding to crashes involving aircraft. The proposed non-aeronautical use is to shift focus from ARFF training to industrial firefighting of all types.

The property is presently used for an ARFF training facility for personnel responding to emergencies involving aircraft. The land was purchased using Airport Improvement Program (AIP) funds. Lake Superior College and the City of Duluth, co-sponsors for the grant, propose to continue to use the facility as a firefighting training facility, but one that focuses on emergencies and fires of all types; rather than aircraft specific. This is no longer needed for an aeronautical purpose. The property will remain under the jurisdiction of Lake Superior College and the Minnesota State Colleges and University system. Lake Superior College will repay the current Fair Market Value (FMV) of the property to the City of Duluth where the funds will be used for future airport improvement projects at the Duluth International Airport.

The disposition of proceeds from the property will be in accordance with FAA's Policy and Procedures Concerning the Use of Airport Revenue, published in the Federal Register on February 16, 1999 (64 FR 7696).

This notice announces that the FAA is considering the release of the subject airport property at the Lake Superior College—Emergency Response Training Center, 11501 MN Highway 23, Duluth, MN 55808 from federal land covenants, subject to a reservation for continuing right of flight as well as restrictions on the released property as required in FAA Order 5190.6B section 22.16. Approval does not constitute a commitment by the FAA to financially assist in the disposal of the subject airport property nor a determination of eligibility for grant-in-aid funding from the FAA.

An irregular shaped parcel consisting of approximately 42.29 acres described as the south 250 feet of the NW ¼ of the NE ¼, part of the south 250 feet of the NE ¼ of the NE ¼, the north 480 feet of the SW ¼ -of the NE ¼ of the former Delzotto property, and part of Government Lot 6 located in the SE ¼ of the NE ¼ all located in Section 9 of T48N-R15W

Issued in Minneapolis, MN, on February 7, 2017.
Andrew Peek,
Manager, Dakota-Minnesota Airports District Office, FAA, Great Lakes Region.

[FR Doc. 2017-06293 Filed 3-29-17; 8:45 am]

BILLING CODE 4910-13-P